DEPARTMENT OF STATE

[Public Notice 5632]

Bureau of International Security and Nonproliferation; Termination of Nonproliferation Measures Against a Foreign Entity

AGENCY: Department of State.

ACTION: Notice.

SUMMARY: A determination has been made to terminate sanctions imposed pursuant to Section 3 of the Iran Nonproliferation Act of 2000 on a Russian entity (71 FR 5483).

EFFECTIVE DATE: November 21, 2006.

FOR FURTHER INFORMATION CONTACT: On general issues: J. Christian Kessler, Office of Conventional Arms Threat Reduction, Bureau of International Security and Nonproliferation, Department of State (202-647-2718). On U.S. Government procurement ban issues: Gladys Gines, Office of the Procurement Executive, Department of State (703-516-1691).

SUPPLEMENTARY INFORMATION: Pursuant to Section 4 of the Iran Nonproliferation Act of 2000 (Pub. L. 106-178), the U.S. Government determined on November 17, 2006 that the sanctions imposed effective July 28, 2006 (71 FR 5483), on the Russian entity Sukhoy, are terminated.

Dated: November 22, 2006.
John C. Rood,
Assistant Secretary of State for International Security and Nonproliferation, Department of State.

[FR Doc. E6-20274 Filed 11-29-06; 8:45 am]

BILLING CODE 4710-25-P